DEPARTMENT OF ENERGY

Federal Energy Regulatory Commission

[Docket No. CP08-343-000]

Transcontinental Gas Pipe Line Corporation; Notice of Request Under Blanket Authorization

May 9, 2008.

Take notice that on April 30, 2008, Transcontinental Gas Pipe Line Corporation (Transco), Post Office Box 1396, Houston, Texas 77251, filed in Docket No. CP08-343-000, a prior notice request pursuant to sections 157.205, 157.208, and 157.212 of the Federal Energy Regulatory Commission's regulations under the Natural Gas Act for authorization to construct and operate a new receipt point to receive revaporized liquefied natural gas (LNG), located in Evangeline Parish, Louisiana, all as more fully set forth in the application, which is on file with the Commission and open to public inspection. The filing may also be viewed on the Web at http://www.ferc.gov using the “eLibrary” link. Enter the docket number excluding the last three digits in the docket number field to access the document. For assistance, contact FERC at FERCOnlineSupport@ferc.gov or call toll-free, (866) 208-3676 or TTY, (202) 502-8659.

Specifically, Transco proposes to construct and operate a new receipt point on Transco's mainline in Evangeline Parish, Louisiana to receive revaporized LNG from the Cheniere Pass LNG terminal in Cameron Parish, Louisiana by way of the Kinder Morgan Louisiana Pipeline, LLC (KMLP). The facilities Transco proposes to construct will include a 24-inch tap assembly on Transco's 36-inch Mainline B and a 24-inch tap assembly on Transco's 36-inch Mainline C, flow computer, gas chromatograph with building enclosure, flow/pressure control and overpressure protection facilities, valves, and radio communication facilities at the mainline B and C. Transco estimates the cost of construction to be approximately $1.7 million. Transco states that KMLP will reimburse Transco for all costs associated with such facilities. Transco asserts that the new receipt point will provide Transco with the ability to receive up to 600 MMcf/d of revaporized LNG from KMLP.

Any questions regarding the application should be directed to Marg Camardello, Transcontinental Gas Pipe Line Corporation, P. O. Box 1396, Houston, Texas 77251, at (713) 215-3380.

Any person or the Commission's Staff may, within 60 days after the issuance of the instant notice by the Commission, file pursuant to Rule 214 of the Commission's Procedural Rules (18 CFR 385.214) a motion to intervene or notice of intervention and, pursuant to section 157.205 of the Commission's Regulations under the Natural Gas Act (NGA) (18 CFR 157.205) a protest to the request. If no protest is filed within the time allowed therefor, the proposed activity shall be deemed to be authorized effective the day after the time allowed for protest. If a protest is filed and not withdrawn within 30 days after the time allowed for filing a protest, the instant request shall be treated as an application for authorization pursuant to Section 7 of the NGA.

The Commission strongly encourages electronic filings of comments, protests, and interventions via the Internet in lieu of paper. See 18 C. 385.2001(a)(1)(iii) and the instructions on the Commission's Web site (http://www.ferc.gov) under the “e-Filing” link.

Kimberly D. Bose,
Secretary.

[FR Doc. E8-11020 Filed 5-15-08; 8:45 am]

BILLING CODE 6717-01-P